DEPARTMENT OF COMMERCE

National Oceanic and Atmospheric Administration

Agency Information Collection Activities; Submission to the Office of Management and Budget (OMB) for Review and Approval; Comment Request; Specified Fishing Agreements for U.S. Territorial Catch, Effort, and Allocation Limits

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 20th, 2022 during a 60-day comment period. This notice allows for an additional 30 days for public comments.

Agency: NOAA National Marine Fisheries Service (NMFS).

Title: Specified Fishing Agreements for U.S. Territorial Catch, Effort, and Allocation Limits.

OMB Control Number: 0648-0689.

Form Number(s): None.

Type of Request: Regular (extension of a current collection of information).

Number of Respondents: 3.

Average Hours per Response: 30 hours per agreement; 15 hours per appeal.

Total Annual Burden Hours: 90.

Needs and Uses: The Fishery Ecosystem Plan for Pacific Pelagic Fisheries of the Western Pacific Region (FEP) and regulations at 50 CFR 665.819 allow the Western Pacific Fishery Management Council (Council) to recommend and NMFS to implement catch or fishing effort limits for pelagic fisheries in the Territory of American Samoa, the Territory of Guam, and the Commonwealth of the Northern Mariana Islands (CNMI) (hereinafter, “territory” or “territories”). The regulations further allow NMFS to authorize the government of each territory to allocate a portion of its catch or fishing effort limit to U.S. fishing vessels through specified fishing agreements between the vessels and the respective territories. Payments made by the vessels under these agreements support fisheries development in the territories.

Specified fishing agreements include the identity of fishing vessels subject to the agreement, the amount (weight) of fish or fishing effort to which the agreement applies, and any amount paid under the agreement. Additionally, an authorized official of the U.S. territory and each vessel owner or their designated representative must sign the agreements. There is no specified form for an agreement.

NMFS uses the information in the agreements to determine vessel eligibility, and ensure the amount of fish or fishing effort allocated under the agreement is consistent with the FEP, the Magnuson-Stevens Fishery Conservation and Management Act, other applicable laws, and the conservation needs of the fish stock.

The request also includes a change to the collection's title for improved clarity, from “Amendment 7 to the Fishery Ecosystem Plan for Pelagic Fisheries of the Western Pacific Region—U.S. Territorial Catch and Fishing Effort Limits” to “Specified Fishing Agreements for U.S. Territorial Catch, Effort, and Allocation Limits.”

Affected Public: Individuals or households; business or other for-profit organizations; State or Territorial governments.

Frequency: Annual.

Respondent's Obligation: Required to Obtain or Retain Benefits.

Legal Authority: Magnuson-Stevens Fishery Conservation and Management Act (16 U.S.C. 1801 et seq.; 50 CFR 665.819).

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0689.

Sheleen Dumas,
Department PRA Clearance Officer, Office of the Chief Information Officer, Commerce Department.

[FR Doc. 2022-09830 Filed 5-5-22; 8:45 am]

BILLING CODE 3510-22-P